COMMISSION ON CIVIL RIGHTS

Agenda and Notice of Public Meeting of the Georgia Advisory Committee

Notice is hereby given, pursuant to the provisions of the rules and regulations of the U.S. Commission on Civil Rights (Commission), and the Federal Advisory Committee Act (FACA), that a planning meeting with briefing of the Georgia Advisory Committee to the Commission will convene at 9 a.m. and adjourn at 12 p.m. on Wednesday, August 29, 2007, at the Sam Nunn Federal Center Building, 61 Forsyth Street, SW., Conference Room Center, Conference Room A, Atlanta, GA, 30303. The purpose of this meeting is to review the Committee's school desegregation report and receive a briefing on fair housing issues in the state.

Members of the public are entitled to submit written comments; the comments must be received in the regional office by September 14, 2007. The address is: Southern Regional Office, Sam Nunn Federal Center Building, 61 Forsyth Street, SW., Suite 18T40, Atlanta, GA., 30303. Persons wishing to e-mail their comments, or to present their comments verbally at the meeting, or who desire additional information should contact Peter Minarik, Ph.D., Regional Director, (404) 562-7000, or by e-mail: pminarik@usccr.gov.

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA. It was not possible to publish this notice 15 days in advance of the meeting date because of internal processing delays.

Dated in Washington, DC, August 9, 2007.
Ivy Davis,
Acting Chief, Regional Programs Coordination Unit.

[FR Doc. E7-15915 Filed 8-13-07; 8:45 am]

BILLING CODE 6335-02-P